FEDERAL HOUSING FINANCE AGENCY

12 CFR Part 1293

RIN 2590-AB53

Fair Lending, Fair Housing, and Equitable Housing Finance Plans

AGENCY: Federal Housing Finance Agency.

ACTION: Final rule; repeal of 12 CFR part 1293.

SUMMARY: The Federal Housing Finance Agency (“FHFA” or the “Agency”) is issuing this final rule to repeal the Fair Lending, Fair Housing, and Equitable Housing Finance Plans regulation (“part 1293”). After considering public comments received in response to the proposed rule FHFA published on July 28, 2025, this final rule adopts the proposed rule without change.

DATES: The rule is effective March 9, 2026.

FOR FURTHER INFORMATION CONTACT: For technical questions, please contact Leda Bloomfield, Senior Associate Director, Office of Affordable Housing and Community Investment, (202) 649-3415, Leda.Bloomfield@fhfa.gov; for general questions, please contact MediaInquiries@FHFA.gov. This is not a toll-free number. The mailing address is: Federal Housing Finance Agency, 400 Seventh Street SW, Washington, DC 20219. For TTY/TRS users with hearing and speech disabilities, dial 711 and ask to be connected to any of the contact numbers above.

SUPPLEMENTARY INFORMATION:

I. Background

FHFA adopted part 1293 in May 2024 ¹ to codify the Agency's fair housing and fair lending oversight of the regulated entities, the Enterprise Equitable Housing Finance Plan (EHFP or Plan) program,² and requirements for the Enterprise to collect a borrower's language preference and housing counseling and homeownership education information. After setting forth the purpose of part 1293, definitions, and FHFA enforcement authority in subpart A, subpart B requires the Federal National Mortgage Association (Fannie Mae), the Federal Home Loan Mortgage Corporation (Freddie Mac), and the Federal Home Loan Banks (Banks) (Fannie Mae and Freddie Mac collectively, the “Enterprises”; the Enterprises and the Banks collectively, the “regulated entities”) to comply with fair housing and fair lending laws and with federal prohibitions against unfair or deceptive acts or practices; imposes on the board of directors of each regulated entity a duty to direct operations in conformity with such requirements and prohibitions by appropriately considering compliance with such requirements and prohibitions; reserves FHFA's right to require reports from each regulated entity; and imposes a certification obligation on the reporting regulated entity. Subpart C requires each Enterprise to adopt a triennial EHFP; addresses the contents of such Plans (including actions the Enterprise plans to take to address barriers to sustainable housing opportunities faced by one or more underserved communities), optional Enterprise annual Plan updates, and publication of Plans and updates on an Enterprise's website; addresses FHFA review of Plans once submitted; requires each Enterprise to develop and publish annual performance reports and sets forth the contents of such reports; addresses public engagement on Enterprise Plans and performance assessments; provides for FHFA publication of its annual evaluation assessing Enterprise performance; and imposes obligations related to developing and implementing Plans on Enterprise boards of directors. Subpart D obligates the Banks, beginning in February 2026, to report to FHFA on activities voluntarily undertaken to support underserved communities, and to publicly report if they had taken no such activities and do not plan to take such activities in the future. Subpart E establishes requirements for Enterprise collection of applicant and borrower language preference and whether applicants and borrowers have completed housing counseling or homeownership education and related information. FHFA was not statutorily required to adopt any provision of part 1293.

¹ See 89 FR 42768 (May 16, 2024) (Final Rule) and 88 FR 25293 (Apr. 26, 2023) (Notice of Proposed Rulemaking).

² The Equitable Housing Finance Plan program was created by FHFA, as conservator, in 2021.

FHFA published a Notice of Proposed Rulemaking (proposed rule) in July 2025 to repeal part 1293 ³ after reviewing it in accordance with Executive Order (“Executive Order” or “E.O.”) 14219.⁴ That E.O. directed federal agencies to rescind, as appropriate, regulations determined to be inconsistent with law or certain Administration policies on how statutory authority should be administered.⁵ As FHFA stated in its proposed rule, Administration policy as expressed in various EOs includes “the policy to be `prudent and financially responsible in the expenditure of funds, from both public and private sources, and to alleviate unnecessary regulatory burdens;' ” ⁶ protect the civil rights of all Americans; ⁷ terminate discriminatory and illegal preferences, programs, and activities and combat illegal private-sector diversity, equity, and inclusion preferences, policies, programs, and activities; ⁸ terminate to the maximum extent allowed by law, all equity programs or action plans; ⁹ and “focus enforcement resources on regulations that are squarely authorized by constitutional Federal statutes and . . . reduce regulatory burden.” ¹⁰ Administration priorities also include “lowering the cost of housing and expanding housing supply.” ¹¹

³ 90 FR 35475 (July 28, 2025).

⁴ E.O. 14219 Ensuring Lawful Governance and Implementing the President's “Department of Government Efficiency” Deregulatory Initiative (February 19, 2025), at 90 FR 10583 (Feb. 25, 2025).

⁵ Id., section 2(a).

⁶ 90 FR at 35476, citing E.O. 14192 (January 31, 2025), section 2, at 90 FR 9065 (Feb. 6, 2025).

⁷ 90 FR at 35476, citing E.O. 14173 (January 21, 2025), section 2, at 90 FR 8633 (Jan. 31, 2025).

⁸ Id.

⁹ 90 FR at 35476, citing E.O. 14151 (January 20, 2025), section 2(b)(i), at 90 FR 8339 (Jan. 29, 2025).

¹⁰ 90 FR at 35476, citing E.O. 14219 (February 19, 2025), section 1, at 90 FR 10583 (Feb. 25, 2025).

¹¹ 90 FR at 35476, citing Presidential Memorandum of January 20, 2025, at 90 FR 8245 (Jan. 28, 2025).

Congress provided express authorities and duties for FHFA, the Banks, and the Enterprises to fulfill their public purposes in promoting access to credit throughout the nation. These include the statutory requirement to meet housing goals to serve low-income and very low-income families at 12 U.S.C. 4561 to 4564 for the Enterprises and 12 U.S.C. 1430c (implemented at 12 CFR 1281.11) for the Banks (affordable housing goals), a statutory duty imposed on the Enterprises to serve underserved markets at 12 U.S.C. 4565, and statutorily required Enterprise financial support for the Housing Trust Fund and Capital Magnet Fund at 12 U.S.C. 4567 to 4569. Upon review, FHFA believes that the regulated entities' public purpose to support access to credit in underserved markets can be accomplished effectively through administration of these statutory mandates.¹² As a result, FHFA determined that part 1293 is not legally necessary.

¹² Members of Congress, the Regulated Entities, and industry groups also agreed with this approach during rulemaking for subpart C.

FHFA also determined that, as a matter of policy, part 1293 could be inconsistent with Administration policies and, further, repeal would enhance the prudent and financially responsible expenditure of funds from both public and private sources; alleviate unnecessary regulatory burdens; avoid confusion about roles and responsibilities relative to other agencies with primary statutory jurisdiction; avoid redundant statements about FHFA authority; and align with Administration policy. On the bases that part 1293 is unnecessary and could be inconsistent with Administration policies, and that repeal of part 1293 would further Administration policies, FHFA published the proposed rule to repeal part 1293.¹³

¹³ In the preamble to the NPRM, FHFA considered each substantive provision of part 1293 to assess its legal necessity or consistence with Administration policies.

II. Final Rule

After considering the comments received in light of the bases for FHFA's decision to repeal part 1293, FHFA has determined to adopt the proposed rule without change: that is to say, this final rule repeals part 1293 in its entirety. Repeal does not change statutory requirements for the regulated entities to comply with applicable fair lending and fair housing laws, such as the Fair Housing Act,¹⁴ Equal Credit Opportunity Act (“ECOA”),¹⁵ the fair housing provisions of the Federal Housing Enterprises Financial Safety and Soundness Act of 1992, as amended (Safety and Soundness Act),¹⁶ and the prohibitions on Unfair or Deceptive Acts or Practices (“UDAP”) under the Federal Trade Commission (“FTC”) Act; ¹⁷ and does not change Enterprise or Bank obligations to meet statutory and regulatory affordable housing goals, the Enterprises' statutory duty to serve underserved communities, or the Enterprises' statutory obligations to provide funding to the affordable housing funds. Likewise, repeal does not diminish FHFA's duty, or its commitment, to ensure by appropriate means that the Enterprises and the Banks carry out their statutory missions through activities that are consistent with the Safety and Soundness Act, the authorizing statutes, and the public interest.¹⁸

¹⁴ 42 U.S.C. 3601 et seq.

¹⁵ 15 U.S.C. 1691 et seq.

¹⁶ 12 U.S.C. 4545.

¹⁷ 15 U.S.C. 45.

¹⁸ 12 U.S.C. 4513(a)(1)(B)(iv) and (v).

III. Review of Comments Received

Comments on the proposed rule were accepted between July 28, 2025, and September 26, 2025. FHFA received 26 comments, which were published on FHFA's website. Of these, 25 provided substantive comments about topics in the proposed rule. FHFA received comments from members of the public, trade associations, industry participants, the Council of Federal Home Loan Banks, consumer advocacy organizations, research organizations, and a Congressional representative. Several comment letters were signed by coalitions of organizations. Almost all comments that were opposed to repeal addressed the desirability of part 1293, but did not address the FHFA's reasons for repeal, including that part 1293 is not necessary and that it is inconsistent with the Administration's priorities. Comments to the proposed repeal of part 1293 are discussed below.

A. Support for Proposed Repeal

Several individual commenters and trade associations supported FHFA's proposal to repeal part 1293, stating that repeal would align FHFA's regulations with the Administration's priorities, alleviate unnecessary regulatory and administrative burdens, avoid confusion in roles and responsibilities with other agencies having primary jurisdiction for fair lending and fair housing laws and UDAP provisions of the Federal Trade Act. Commenters also agreed that repeal would avoid duplicative statements of FHFA authorities and improve prudence and financial responsibility in the expenditure of funds.

FHFA appreciates commenters' recognition that the repeal would advance several important policy objectives, including aligning FHFA's rulemaking with the Administration's broader deregulatory priorities, reducing unnecessary administrative and compliance burdens, and clarifying the Agency's role relative to other federal entities with primary jurisdiction over fair lending enforcement. FHFA agrees that these considerations are consistent with sound regulatory practice and prudent stewardship of public resources.

Specifically, commenters noted that part 1293 introduced a framework for fair lending and equitable housing oversight that risked duplicating existing statutory mandates and creating confusion regarding enforcement authority. Commenters noted that the Fair Housing Act and ECOA are primarily enforced by the Department of Housing and Urban Development (HUD) and the Consumer Financial Protection Bureau (CFPB), respectively, where FHFA's supervisory authority is distinct and focused on ensuring that the Enterprises and the Banks operate in a safe and sound manner and comply with the Safety and Soundness Act and the applicable regulated entity charter act. These commenters opined that maintaining a separate regulatory structure under part 1293 that overlaps with the jurisdiction of HUD and CFPB could lead to conflicting expectations, fragmented oversight, and diminished regulatory clarity.

Supporters of the repeal also highlighted that part 1293 imposed administrative complexity without enforceable standards, particularly for the Banks. FHFA acknowledges that the voluntary nature of the Banks' participation in the EHFP program could create ambiguity in both scope and accountability, and ultimately, could limit the utility of part 1293 as a supervisory tool for these regulated entities.

In addition, commenters urged FHFA to clarify the scope of its fair lending oversight and to continue exercising its broad supervisory authority to request targeted reports and conduct reviews as needed. FHFA affirms its commitment to fair lending compliance and will continue to monitor the regulated entities through supervisory examinations, data analysis, and interagency coordination. The repeal of part 1293 does not diminish FHFA's ability to oversee fair lending practices, but it streamlines the regulatory framework and reinforces the Agency's focus on effective, risk-based oversight consistent with its statutory mandate.

FHFA also agrees with commenters that prudent regulation should not result in duplicative or non-essential requirements. The repeal of part 1293 supports this goal by reducing administrative costs for both the Agency and the regulated entities, allowing resources to be directed toward core mission activities and statutory obligations. FHFA remains committed to promoting access to housing finance nationwide through targeted, enforceable programs and supervisory tools that are aligned with its legal authority and policy priorities.

B. Opposition to Proposed Repeal

Most commenters opposed FHFA's proposal to repeal part 1293 and focused on the potential loss of societal benefits made available through the EHFPs. Commenters criticized part 1293 for not having more rigorous requirements, particularly for the Banks. Some commenters opposed the repeal based on the EHFPs' capability to reduce ongoing homeownership disparities and impact a multitude of underserved communities, unlike the statutorily mandated affordable housing goals and Duty to Serve programs that specify, and thereby limit, the underserved markets eligible for support.

FHFA appreciates the thoughtful input provided by commenters who opposed the proposed repeal of part 1293, particularly those who emphasized the societal benefits attributed to the EHFPs. The Agency remains committed to promoting fair access to credit and the housing finance system, but maintains that repeal of part 1293 aligns with Administration policies to restore regulatory clarity, reinforce statutory alignment, and strengthen the effectiveness of its supervisory framework.

FHFA finds that although the EHFPs may offer a broader reach than the affordable housing goals and Duty to Serve programs, these programs are grounded in statute and subject to rigorous performance evaluation and enforcement mechanisms. As such, these programs are designed to address persistent disparities in access to mortgage credit and housing finance, including those affecting rural, manufactured housing, and other underserved markets. The programmatic structure provides a durable and enforceable framework for advancing access to the housing finance system.

FHFA also notes that the regulated entities remain subject to comprehensive obligations under federal fair lending laws, including the Fair Housing Act and ECOA administered by HUD and CFPB, respectively. The Agency's broad supervisory authority complements these rulemaking and enforcement authorities by ensuring that regulated entities operate in a safe and sound manner and comply with applicable legal standards. FHFA acknowledges that fair lending supervisory oversight is often overlapping amongst the other federal regulators and will continue to coordinate closely with HUD, CFPB, and the Department of Justice, as appropriate. Repeal will eliminate duplicative statements of FHFA's authority and avoids duplicating oversight and confusion regarding jurisdiction and the scope of the Agency's authority.

With respect to the Banks, FHFA acknowledges that some commenters viewed part 1293 as a mechanism to impose more rigorous requirements. However, the voluntary nature of the Banks' participation in the EHFP framework created ambiguity regarding enforceability and supervisory expectations. To strengthen oversight of Bank community support activities, the Agency is considering revisions to the existing Community Support Program framework, which allows FHFA to evaluate the Banks' contributions to affordable housing and community development in a manner that is consistent, transparent, and enforceable.

FHFA acknowledges that the repeal of part 1293 does not preclude the regulated entities from pursuing initiatives such as cash flow underwriting, expanding access to affordable rental housing, Special Purpose Credit Programs, or supporting natural disaster rebuilding. The Agency remains committed to supporting innovation and fairness in the housing finance system through tools that are operationally sound and responsive to evolving market needs and conditions.

Although most comments that were opposed to the proposed rule failed to address FHFA's reasons for repeal, a few comments could be interpreted as assertions that part 1293 is necessary. Those comments focused on FHFA's authority, in the absence of part 1293, to take fair lending compliance into account in supervisory ratings and to assess civil money penalties against a regulated entity for a violation of fair lending and consumer protection laws.

Specifically, one commenter asserted that FHFA is abdicating its ability to embed fair lending compliance into its risk-focused rating structure. The Agency's examiners use a risk-focused rating system to assign each regulated entity a composite rating based on an evaluation of various aspects of its operations. The Agency, however, notes that its authority to incorporate fair lending performance into supervisory ratings is derived directly from the Safety and Soundness Act that confer broad supervisory powers on FHFA.¹⁹ FHFA's ability to incorporate fair lending compliance performance into ratings is an inherent supervisory power that continues to exist independently of part 1293. Part 1293 was promulgated as a means of publicly asserting this authority, but it is not the sole source of or a prerequisite for the exercise of that authority. Prior to its adoption of part 1293, FHFA incorporated fair lending compliance performance into the management component of its rating system. FHFA will retain the authority to do so, as appropriate, even after part 1293 is repealed.

¹⁹ See generally, 12 U.S.C. 4501 et seq.

Another commenter objected that repealing part 1293 will make it impossible for FHFA to impose a civil money penalty against a regulated entity for a violation of fair lending and consumer protection laws. The commenter pointed out the FHFA Director's statutory obligation to exercise general regulatory authority to ensure that “the purposes of . . . any other applicable act are carried out” but also noted that FHFA's authority to assess a civil money penalty does not extend to violations of “any other applicable act” but is limited to violations of the Safety and Soundness Act, the authorizing statutes (which are charter acts relevant to each regulated entity), and any “order, condition, rule, or regulation under [the Safety and Soundness Act] or any authorizing statute.” Working from those observations, the commenter then asserted that FHFA must establish a rule such as part 1293; otherwise, there is no rule “under the Safety and Soundness Act” on compliance with fair housing, fair lending, and consumer protection acts, the violation of which would support imposition of a civil money penalty.

Even assuming the correctness of the commenter's legal assertions, it does not follow that the inability to impose a civil money penalty unless a certain condition is met (in this case, the presence of a rule such as part 1293) requires FHFA to establish the condition. It is possible that FHFA's narrower grant of authority to impose civil money penalties was intended to be instructive, or at least a consideration, as to the types of violations for which FHFA should assess a monetary penalty. As the commenter also pointed out, FHFA's authority to bring a cease-and-desist proceeding is not similarly limited but could be exercised if FHFA determined there was a violation of “a law” by a regulated entity. FHFA is not without a remedy if it determines that a regulated entity has violated a fair lending or consumer protection law; it may merely be limited in its choice of enforcement action.

FHFA has also carefully considered a comment that repealing part 1293 would unlawfully disregard reliance interests of participants in the housing finance system and that FHFA's analysis of stakeholder investments and expectations was insufficient, considering requirements of the Administrative Procedure Act (APA). The Agency acknowledges that the APA requires agencies to consider reliance interests when changing a rule.²⁰ However, the APA does not require an agency to retain a regulation or provision solely because stakeholders have invested in its implementation.²¹ In accordance with the APA, a reasoned analysis, including a consideration of reliance interests that may have developed under the prior regulation, is required for a change in policy. The proposed rule as adopted as final includes a comprehensive justification that addresses the costs of the rule, the reasons for the proposed change in policy, and the potential reliance interests that are impacted by the rule.

²⁰ See, generally, Kate R. Bowers & Daniel J. Sheffner, Agency Rescissions of Legislative Rules, Cong. Rsch. Serv., R46673 (Feb. 8, 2021), available at: https://www.congress.gov/crs-product/R46673; Todd Garvey, A Brief Overview of Rulemaking and Judicial Review, Cong. Rsch. Serv., R41546 (Mar. 27, 2017), available at: https://www.congress.gov/crs-product/R41546; Perez v. Mortgage Bankers Ass'n, 129 Harv. L. Rev. 102 (2015), available at: https://harvardlawreview.org/wp-content/uploads/2015/11/291-300-Online.pdf; and Mortg. Bank., 135 S. Ct. at 1209 (an agency's change in policy may be “arbitrary and capricious” where it “rests upon factual findings that contradict those which underlay its prior policy; or when its prior policy has engendered serious reliance interests that must be taken into account”).

²¹ Ibid.

FHFA's analysis determined that while investments were made, repeal of part 1293 would not render these investments entirely moot or without future value. Many of the investments and innovative concepts, particularly in information technology systems, automated underwriting systems, and staff training, provide broader benefits beyond mere compliance with part 1293. Systems and concepts developed in response to part 1293 can continue to be used for a variety of business and regulatory purposes, such as compliance with other housing finance laws, internal risk management, and market analysis. In addition, the knowledge and skills acquired by training staff are transferable and the relationships and partnerships built with community organizations are valuable to ensure the regulated entities operate in the public interest. The repeal of part 1293 does not dissolve these partnerships.

FHFA also considered a commenter's concern about the proposed rule's Cost Analysis—that FHFA did not correctly apply OMB Circular A-4 and did not provide a detailed forward-looking cost-benefit analysis for the years 2025-2027. OMB Circular A-4 requires agencies to compare the proposed action to a baseline that reflects the state of the world without the proposed action. In this case, the proposed action is the repeal of part 1293, under which the regulated entities will be relieved of the obligations of part 1293, thereby eliminating the future costs of compliance and redirecting resources to other activities. The “no-action” baseline, therefore, is the continuation of part 1293 in its current form, under which the regulated entities would continue to comply with the obligations of part 1293, incurring ongoing costs for reporting, compliance, and equitable housing finance planning. As such, FHFA's economic analysis is fully consistent with these instructions.

When evaluating FHFA's cost-benefit analysis, the commenter incorrectly characterized the historical investments from 2022-2024 as costs that should be analyzed in a forward-looking baseline. In economic terms, expenditures that have already occurred and cannot be recovered are considered “sunk costs.” FHFA's analysis correctly identified that the costs incurred by stakeholders to implement part 1293 from 2022-2024 have already been obligated and expended for the purpose of determining the costs associated with repealing part 1293. The relevant question is not whether those past investments were worthwhile, but whether the future costs of continuing part 1293 outweigh its future benefits.

In sum, FHFA finds that the comments submitted were thorough and comprehensive, addressing key aspects of the proposed recission. However, none of the commenters demonstrated that part 1293 was legally required or otherwise necessary or established that repeal would be inconsistent with the current Administration's policies as discussed above and in the preamble to the proposed rule. Likewise, commenters also did not demonstrate how retaining part 1293 in its current form would promote the Administration's priorities. This indicates a general consensus or at least an absence of significant disagreement that recission of part 1293 aligns with the Administration's objectives. Accordingly, FHFA concludes that the repeal of part 1293 is warranted and will not diminish the Agency's commitment to promoting fair lending, affordable housing, and equitable access to credit. The Agency will continue to evaluate and strengthen its regulatory and supervisory tools to ensure that the housing finance system serves all communities in a safe, sound, and sustainable manner.

IV. Reservation of Authority

Notwithstanding any repeal of 12 CFR part 1293, FHFA retains all authority, and continues to exercise general regulatory, examination, and enforcement authorities over its regulated entities to ensure that they are operated and managed in a safe and sound manner, comply with applicable law, and fulfill their public purposes. FHFA exercise of these authorities may be reflected in its supervision and enforcement program and activities, including appropriate rulemaking, examination, and enforcement to address safety and soundness and compliance with applicable law. FHFA exercise of these authorities may also be reflected in coordination and cooperation with other federal agencies generally or on specific matters to ensure that the purposes of the Safety and Soundness Act, the authorizing statutes, and any other applicable law are carried out. The repeal of unnecessary FHFA requirements for the regulated entities to comply with specified laws administered by other agencies is not intended to affect the applicability, effectiveness, or enforcement of those laws with respect to the regulated entities.

V. Regulatory Impacts

A. Executive Orders 12866 and 14215—Regulatory Planning and Review

Executive Order 14215 Ensuring Accountability for All Agencies (February 18, 2025) ²² (Independent Agency Accountability) amends Executive Order 12866 Regulatory Planning and Review (September 30, 1993) ²³ to include in its definition of “agency,” those agencies under 44 U.S.C. 3502(1) including any “independent regulatory agency.” Accordingly, pursuant to Executive Order 12866 as amended, FHFA must determine whether its regulatory action to repeal is “significant” and subject to review by OMB. Executive Order 12866 defines a “significant regulatory action” as one that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

²² 90 FR 10447 (Feb. 24, 2025).

²³ 58 FR 51735 (Oct. 4, 1993).

FHFA has determined the final rule not to be a significant regulatory action for purposes of E.O. 12866. OMB has reviewed FHFA's economic impact analysis and has concurred in the determination that the final rule to repeal part 1293 is not a significant regulatory action and does not require OMB coordination and review under E.O. 12866. Further, as a deregulatory action, FHFA does not expect the action to interfere with the actions of another agency, materially alter the budgetary impact of programs, nor raise novel issues relating to legal mandates or the President's priorities.

B. Executive Order 13563—Improving Regulation and Regulatory Review

Executive Order 13563 Improving Regulation and Regulatory Review (January 18, 2011) ²⁴ directs agencies to analyze regulations that are “outmoded, ineffective, insufficient, or excessively burdensome, and to modify, streamline, expand, or repeal them in accordance with what has been learned.” Executive Order 13563 also directs that, where relevant, feasible, and consistent with regulatory objectives, and to the extent permitted by law, agencies are to identify and consider regulatory approaches that reduce burdens and maintain flexibility and freedom of choice for the public. FHFA has developed this final rule in a manner consistent with these requirements.

²⁴ 76 FR 3821 (Jan. 21, 2011).

C. Executive Order 14192—Regulatory Costs

Executive Order 14192 Unleashing Prosperity Through Deregulation (January 31, 2025) ²⁵ requires that for each new regulation issued, at least 10 existing regulations be identified for elimination. Executive Order 14192 also directs that any new incremental costs associated with new regulations shall, to the extent permitted by law, be offset by the elimination of existing costs associated with at least 10 prior regulations. FHFA's implementation of these requirements will be informed by M-25-20, Guidance Implementing Section 3 of Executive Order 14192, Titled “Unleashing Prosperity Through Deregulation” (March 26, 2025). This final rule is expected to be an Executive Order 14192 deregulatory action given the associated cost savings.

²⁵ 90 FR 9065 (Feb. 6, 2025).

D. Regulatory Flexibility Act

The Regulatory Flexibility Act (5 U.S.C. 601 et seq.) requires that a regulation that has a significant economic impact on a substantial number of small entities, small businesses, or small organizations must include an initial regulatory flexibility analysis describing the regulation's impact on small entities. Such an analysis need not be undertaken if the agency has certified that the regulation will not have a significant economic impact on a substantial number of small entities (5 U.S.C. 605(b)). FHFA has considered the impact of the final rule under the Regulatory Flexibility Act. This final rule will help align FHFA's regulations with the Administration's priorities, alleviate unnecessary regulatory burdens, avoid confusion in roles and responsibilities with other agencies having primary jurisdiction, avoid duplicative statements of FHFA authorities, and improve prudence and financial responsibility in the expenditure of funds, from both public and private sources. When promulgated in 2023, the final rule establishing part 1293 was not subject to OMB review. FHFA certifies that this final rule repealing part 1293 will not have a significant economic impact on a substantial number of small entities because the rule applies to Fannie Mae, Freddie Mac, and the Federal Home Loan Banks, which are not small entities for purposes of the Regulatory Flexibility Act.

E. Paperwork Reduction Act

The final rule would not contain any information collection requirement that would require the approval of the OMB under the Paperwork Reduction Act (44 U.S.C. 3501 et seq.). Therefore, FHFA has not submitted the final rule to OMB for review for purposes of the Paperwork Reduction Act.

F. Congressional Review Act

The Office of Management and Budget, Office of Information and Regulatory Affairs (OIRA) has determined the final rule does not meet the definition of “major rule” in the Congressional Review Act at 5 U.S.C. 804(2). OIRA also has determined that this rule is not economically significant under subsection 3(f)(1) of Executive Order 12866.

List of Subjects in 12 CFR Part 1293

Fair housing, Federal home loan banks, Government-sponsored enterprises, Mortgages, Reporting and recordkeeping requirements.

PART 1293—[REMOVED AND RESERVED]

For the reasons stated in the preamble, under the authority of 12 U.S.C. 4511, 4513, 4513b, and 4526, FHFA removes and reserves 12 CFR part 1293.

Clinton Jones,
General Counsel, Federal Housing Finance Agency.

[FR Doc. 2026-02325 Filed 2-5-26; 8:45 am]

BILLING CODE 8070-01-P